DEPARTMENT OF ENERGY

Federal Energy Regulatory Commission

Combined Notice of Filings #1

Take notice that the Commission received the following exempt wholesale generator filings:

Docket Numbers: EG25-140-000.

Applicants: BHS Solar, LLC.

Description: BHS Solar, LLC submits Notice of Self-Certification of Exempt Wholesale Generator Status.

Filed Date: 2/12/25.

Accession Number: 20250212-5052.

Comment Date: 5 p.m. ET 3/5/25.

Docket Numbers: EG25-141-000.

Applicants: Flat Fork Solar, LLC.

Description: Flat Fork Solar, LLC submits Notice of Self-Certification of Exempt Wholesale Generator Status.

Filed Date: 2/12/25.

Accession Number: 20250212-5120.

Comment Date: 5 p.m. ET 3/5/25.

Docket Numbers: EG25-142-000.

Applicants: Bronson Solar, LLC.

Description: Bronson Solar, LLC submits Notice of Self-Certification of Exempt Wholesale Generator Status.

Filed Date: 2/12/25.

Accession Number: 20250212-5161.

Comment Date: 5 p.m. ET 3/5/25.

Take notice that the Commission received the following electric rate filings:

Docket Numbers: ER18-1639-030.

Applicants: Constellation Mystic Power, LLC.

Description: Compliance filing: Compliance Filing of Tariff Records to Implement Global Settlement Agreement to be effective 6/1/2022.

Filed Date: 2/12/25.

Accession Number: 20250212-5116.

Comment Date: 5 p.m. ET 3/5/25.

Docket Numbers: ER24-2662-003.

Applicants: Duane Arnold Solar II, LLC.

Description: Notice of Non-Material Change in Status of Duane Arnold Solar II, LLC.

Filed Date: 2/12/25.

Accession Number: 20250212-5105.

Comment Date: 5 p.m. ET 3/5/25.

Docket Numbers: ER25-848-001.

Applicants: Merced BESS, LLC.

Description: Tariff Amendment: Merced BESS LLC MBR Tariff to be effective 1/10/2025.

Filed Date: 2/12/25.

Accession Number: 20250212-5138.

Comment Date: 5 p.m. ET 3/5/25.

Docket Numbers: ER25-1274-000.

Applicants: Oxbow Solar, LLC.

Description: Petition for Limited Waiver of Oxbow Solar, LLC.

Filed Date: 2/11/25.

Accession Number: 20250211-5132.

Comment Date: 5 p.m. ET 3/4/25.

Docket Numbers: ER25-1276-000.

Applicants: Midcontinent Independent System Operator, Inc.

Description: 205(d) Rate Filing: 2025-02-12_SA 3920 Duke-IN Solar 2nd Rev GIA (J1234 J1235) to be effective 2/10/2025.

Filed Date: 2/12/25.

Accession Number: 20250212-5058.

Comment Date: 5 p.m. ET 3/5/25.

Docket Numbers: ER25-1277-000.

Applicants: Tri-State Generation and Transmission Association, Inc.

Description: Tariff Amendment: Notice of Cancellation of Service Agreement FERC No. 826 to be effective 8/8/2024.

Filed Date: 2/12/25.

Accession Number: 20250212-5086.

Comment Date: 5 p.m. ET 3/5/25.

Docket Numbers: ER25-1278-000.

Applicants: Dominion Energy South Carolina, Inc.

Description: 205(d) Rate Filing: Concurrence Dynamic Sched Agr DEC for CEPC to be effective 4/10/2025.

Filed Date: 2/12/25.

Accession Number: 20250212-5100.

Comment Date: 5 p.m. ET 3/5/25.

Docket Numbers: ER25-1279-000.

Applicants: Tower Solar, LLC.

Description: Initial Rate Filing: Application for Market-Based Rate Authorization, Request for Related Waivers to be effective 4/14/2025.

Filed Date: 2/12/25.

Accession Number: 20250212-5104.

Comment Date: 5 p.m. ET 3/5/25.

Docket Numbers: ER25-1280-000.

Applicants: Tri-State Generation and Transmission Association, Inc.

Description: 205(d) Rate Filing: Initial Filing of Rate Schedule No. 403 to be effective 1/15/2025.

Filed Date: 2/12/25.

Accession Number: 20250212-5106.

Comment Date: 5 p.m. ET 3/5/25.

Docket Numbers: ER25-1281-000.

Applicants: ISO New England Inc., Central Maine Power Company.

Description: 205(d) Rate Filing: Central Maine Power Company submits tariff filing per 35.13(a)(2)(iii: CMP; Post-Retirement Benefits Other Than Pensions Expense Refund Report to be effective 4/14/2025.

Filed Date: 2/12/25.

Accession Number: 20250212-5119.

Comment Date: 5 p.m. ET 3/5/25.

Docket Numbers: ER25-1282-000.

Applicants: ISO New England Inc., The United Illuminating Company.

Description: 205(d) Rate Filing: The United Illuminating Company submits tariff filing per 35.13(a)(2)(iii: UI; Post-Retirement Benefits Other Than Pensions Expenses Refund Report to be effective 4/14/2025.

Filed Date: 2/12/25.

Accession Number: 20250212-5124.

Comment Date: 5 p.m. ET 3/5/25.

Docket Numbers: ER25-1283-000.

Applicants: Pacific Gas and Electric Company.

Description: 205(d) Rate Filing: RS 229: Amendment to COTP Owners Coordinated Operation Agreement to be effective 4/1/2025.

Filed Date: 2/12/25.

Accession Number: 20250212-5136.

Comment Date: 5 p.m. ET 3/5/25.

Docket Numbers: ER25-1284-000.

Applicants: Milford Gen Lead, LLC.

Description: 205(d) Rate Filing: Interconnection and Transmission Services Agreements to be effective 4/13/2025.

Filed Date: 2/12/25.

Accession Number: 20250212-5154.

Comment Date: 5 p.m. ET 3/5/25.

Docket Numbers: ER25-1285-000.

Applicants: Mammoth Plains Wind, LLC.

Description: 205(d) Rate Filing: Application for Market-Based Rate Authorization to be effective 4/14/2025.

Filed Date: 2/12/25.

Accession Number: 20250212-5160.

Comment Date: 5 p.m. ET 3/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 12, 2025.
Carlos D. Clay,
Deputy Secretary.

[FR Doc. 2025-02776 Filed 2-18-25; 8:45 am]

BILLING CODE 6717-01-P